DEPARTMENT OF THE INTERIOR

Fish and Wildlife Service

Eastern Neck National Wildlife Refuge

AGENCY: Fish and Wildlife Service, Interior.

ACTION: Notice of intent: re-initiate preparation of a comprehensive conservation plan and environmental assessment.

SUMMARY: The U.S. Fish and Wildlife Service (Service, we, our) announces that we are re-initiating the preparation of a Comprehensive Conservation Plan (CCP) and Environmental Assessment (EA) for Eastern Neck National Wildlife Refuge (NWR). Our original notice of intent to prepare a CCP was published in the Federal Register on June 11, 2002. At that time, we also held public scoping meetings. In June 2003, we announced through a special mailing that we were postponing work on the project due to a change in budget and staffing priorities.

We are preparing a CCP and EA pursuant to the National Wildlife Refuge System Administration Act of 1966, as amended by the National Wildlife Refuge System Improvement Act of 1997, and the National Environmental Policy Act of 1969. This notice advises other Federal and State agencies and the public of our intent to complete detailed planning on this refuge and to obtain suggestions and information to include in the environmental document. Special mailings, newspaper articles, media announcements, and our Web site will provide information about future opportunities for public involvement in the planning process.

DATES: We hosted a public information session and open house on January 17, 2007 at the American Legion Hall, 21423 Sharp Street, Rock Hall, Maryland. We announced this session at least 2 weeks in advance in special mailings, through local newspaper notices, on our Web site, and by personal contacts. Additional public information sessions in the local community are available upon request.

ADDRESSES: Eastern Neck NWR, 1730 Eastern Neck Road, Rock Hall, Maryland 21661, at 410-639-7056 (telephone); 410-639-2516 (FAX); http://www.fws.gov/northeast/easternneck (Web site).

FOR FURTHER INFORMATION CONTACT: Nancy McGarigal, Refuge Planner, U.S. Fish and Wildlife Service, 300 Westgate Center Drive, Hadley, Massachusetts 01035; 413-253-8562 (telephone); 413-253-8468 (FAX); northeastplanning@fws.gov(e-mail), noting Eastern Neck NWR in the subject title.

SUPPLEMENTARY INFORMATION: Under the National Wildlife Refuge System Administration Act of 1966, as amended by the National Wildlife Refuge System Improvement Act of 1997 (16 U.S.C. 668dd-668ee), we manage all lands in the National Wildlife Refuge System in accordance with an approved CCP. The plan guides management decisions and identifies refuge goals, management objectives, and strategies for achieving refuge purposes over a 15-year period.

The planning process covers many elements, including wildlife and habitat management, visitor and recreational activities, special areas management, cultural resource protection, and facilities and infrastructure. We will determine which existing or proposed uses of the refuge are appropriate and compatible. We will also conduct a wilderness review and a wild and scenic rivers evaluation to determine whether any areas on the refuge qualify for those Federal designations.

We encourage public input during the planning process. The comments we receive, including those submitted during initial public scoping in 2002, will help identify key issues and refine our goals and objectives for managing refuge resources and visitors. Additional opportunities for public participation will arise throughout the planning process, which we expect to complete in 2008. We are presently summarizing refuge data and consulting resource experts to provide us a scientific basis for our management decisions. We will prepare the EA in accordance with the Council on Environmental Quality procedures for implementing the National Environmental Policy Act of 1969 (42 U.S.C. 4321-4370d).

The 2,285-acre Eastern Neck NWR is an island that lies at the confluence of the Chester River and the Chesapeake Bay in Kent County, Maryland. The refuge headquarters is located approximately 5 miles south of the town of Rock Hall. Habitats on the refuge are highly diverse and include woodland, grassland, open water, tidal marsh, and cropland. The refuge was established in 1962 to protect migratory birds and is regionally recognized as a major feeding and resting place for a wide variety of migrating and wintering waterfowl. Huge rafts of ruddy ducks, canvasbacks, and scaup are commonly observed during winter, as are thousands of Atlantic Canada geese and black ducks in the refuge fields and waters. Of particular note are the wintering tundra swans that use adjacent shallow waters. Federally listed and rare species occur on the refuge, including a small population of the endangered Delmarva fox squirrel, the threatened southern bald eagle, and over 60 migratory birds of conservation concern.

The refuge is also distinguished as a land-use demonstration site within the Chesapeake Bay watershed. Our agriculture program in support of wildlife habitat, our wetland restoration projects, native landscaping practices, and our renewable energy demonstration projects, serve as models for other landowners.

We estimate 54,000 refuge visitors annually engage in hunting, fishing, wildlife observation and photography, and environmental education and interpretation programs. We maintain self-guided interpretive trails, fishing and observation platforms, and photography blinds to facilitate these activities. We also welcome a variety of school and youth groups throughout the year for educational and interpretive programs focused on the Chesapeake Bay ecosystem, its migratory birds, and other natural resources.

Dated: December 21, 2006.
Richard O. Bennett,
Acting Regional Director, U.S. Fish and Wildlife Service, Hadley, Massachusetts.

[FR Doc. E7-769 Filed 1-19-07; 8:45 am]

BILLING CODE 4310-55-P